DEPARTMENT OF TRANSPORTATION

Federal Aviation Administration

Meetings; Commercial Space Transportation Advisory Committee

AGENCY: Federal Aviation Administration (FAA), Department of Transportation.

ACTION: Notice of Commercial Space Transportation Advisory Committee (COMSTAC) meeting.

SUMMARY: This notice announces a meeting of the Commercial Space Transportation Advisory Committee.

DATES: The meeting will take place on November 8, 2023, from 12 p.m. to 4 p.m. eastern time.

ADDRESSES: The FAA will post instructions on how to virtually attend the meeting, copies of meeting minutes, and a detailed agenda will be posted on the COMSTAC website at: https://www.faa.gov/space/additional_information/comstac/.

FOR FURTHER INFORMATION CONTACT: Brian A. Verna, Designated Federal Officer, U.S. Department of Transportation, telephone (202) 267-1710; email brian.verna@faa.gov. Submit any committee-related request to the person listed in this section.

SUPPLEMENTARY INFORMATION:

I. Background

The U.S. Department of Transportation created the Commercial Space Transportation Advisory Committee under the Federal Advisory Committee Act (FACA) in accordance with Public Law 92-463. Since its inception, industry-led COMSTAC has provided information, advice, and recommendations to the U.S. Department of Transportation through FAA regarding technology, business, and policy issues relevant to oversight of the U.S. commercial space transportation sector.

II. Proposed Agenda

• Welcome Remarks

○ Designated Federal Officer

○ COMSTAC Chair and Vice Chair

○ Associate Administrator for AST

• Speaker: Deputy Secretary of Transportation Polly Trottenberg (tentative)

• FAA ARP “Aeronautical Activity” Definition Update

• Lessons Learned Information System—FAA and COMSTAC discussion

• FAA feedback on recent recommendations and COMSTAC discussion

• COMSTAC membership discussion

• COMSTAC discuss and assign tasks for Spring 2024

• Public Comment Period

• Closing Comments

• Adjournment

III. Public Participation

The meeting listed in this notice will be open to the public virtually. Please see the website no later than five working days before the meeting for details on viewing the meeting on YouTube.

If you are in need of assistance or require a reasonable accommodation for this meeting, please contact the person listed in the FOR FURTHER INFORMATION CONTACT section at least 10 calendar days before the meeting. The FAA can make sign and oral interpretation available if it is requested 10 calendar days before the meeting.

Interested members of the public may submit relevant written statements for the COMSTAC members to consider under the advisory process. Statements may concern the issues and agenda items mentioned above and/or additional issues that may be relevant to the U.S. commercial space transportation industry. Interested parties wishing to submit written statements should contact the person listed in the FOR FURTHER INFORMATION CONTACT section in writing (mail or email) by November 5, 2023, so that the information is available to COMSTAC members for their review and consideration before the meeting. Written statements should be in the following formats: One hard copy with original signature and/or one electronic copy via email. The preference for email submissions is Portable Document Format (PDF) attachments. A detailed agenda will be posted on the FAA website at https://www.faa.gov/space/additional_information/comstac/.

Issued in Washington, DC.
Brian A. Verna,
Designated Federal Officer, Commercial Space Transportation Advisory Committee, Federal Aviation Administration, Department of Transportation.

[FR Doc. 2023-23086 Filed 10-18-23; 8:45 am]

BILLING CODE 4910-13-P